DEPARTMENT OF HOMELAND SECURITY

Bureau of Customs and Border Protection

Notice of Cancellation of Customs Broker Licenses Due to Death of the License Holder

AGENCY: Bureau of Customs and Border Protection, U.S. Department of Homeland Security.

ACTION: General Notice.

SUMMARY: Notice is hereby given that, pursuant to Title 19 of the Code of Federal Regulations at section 111.51(a), the following individual Customs broker licenses and any and all permits have been cancelled due to the death of the broker:

Name | License No. | Port name
Marjorie A. Kilburn | 06387 | Houston.
Richard E. Lund | 07572 | Los Angeles.
Chris T. Banis | 05247 | San Francisco.
Larry Germi | 07842 | Miami.

Dated: July 11, 2008.
Daniel Baldwin,
Assistant Commissioner, Office of International Trade.

[FR Doc. E8-16559 Filed 7-18-08; 8:45 am]

BILLING CODE 9111-14-P